DEPARTMENT OF THE INTERIOR

Fish and Wildlife Service

[FWS-R1-ES-2011-N019; [10120-1113-0000-C4]

Endangered and Threatened Wildlife and Plants; 5-Year Status Reviews of Three Species in Washington, Oregon, and California; Reopening of Public Comment Period

AGENCY: Fish and Wildlife Service, Interior.

ACTION: Notice of initiation of reviews; request for information; reopening of comment period.

SUMMARY: We, the U.S. Fish and Wildlife Service, recently initiated 5-year reviews for the Oregon silverspot butterfly (Speyeria zerene hippolyta), northern spotted owl (Strix occidentalis caurina), and Stephanomeria malheurensis (Malheur wire-lettuce) under the Endangered Species Act of 1973, as amended (Act). See SUPPLEMENTARY INFORMATION for details. Because we may not have received some comments submitted by email, we now reopen the comment period. We request any new information on these species that may have a bearing on their classification as endangered or threatened. Based on the results of our 5-year reviews we will determine whether these species are properly classified under the Act.

DATES: To ensure consideration in our reviews, we are requesting submission of new information no later than May 20, 2011. However, we will continue to accept new information about any listed species at any time.

ADDRESSES: Submit information to: Field Supervisor, Attention: 5-Year Review, U.S. Fish and Wildlife Service, Oregon Fish and Wildlife Office, 2600 SE. 98th Avenue, Suite 100, Portland, OR 97266. Information can also be submitted by e-mail to: fw1or5yearreview@fws.gov.

FOR FURTHER INFORMATION CONTACT: Jeff Dillon, U.S. Fish and Wildlife Service, Oregon Fish and Wildlife Office, 503-231-6179. Individuals who are hearing impaired or speech impaired may call the Federal Relay Service at (800) 877-8337 for TTY assistance.

SUPPLEMENTARY INFORMATION: On November 24, 2010, we published a notice initiating 5-year reviews for 58 species in Washington, Oregon, California, and Hawaii and requesting public comment for a 60-day comment period (75 FR 71726). Due to a typographical error in the email address for the Oregon Fish and Wildlife Office, we may not have received some comments for three of these species (Oregon silverspot butterfly, northern spotted owl, and Stephanomeria malheurensis) if they were submitted by email. Therefore, we are reopening the comment period for these three species to allow comments to be resubmitted if necessary. Comments that were originally sent by regular mail, or comments addressing the other 55 species in the original notice, need not be resubmitted.

Please refer to our notice of November 24, 2010, for background information on the 5-year review process. As stated in that notice, to ensure that a 5-year review is complete and based on the best available scientific and commercial information, we request new information from all sources. If you submit information, please support it with documentation such as maps, bibliographic references, methods used to gather and analyze the data, and/or copies of any pertinent publications, reports, or letters by knowledgeable sources.

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Authority

This document is published under the authority of the Endangered Species Act of 1973, as amended (16 U.S.C. 1531 et seq.).

Dated: March 8, 2011.
Richard R. Hanman,
Acting Regional Director, Region 1, Fish and Wildlife Service.

[FR Doc. 2011-9542 Filed 4-19-11; 8:45 am]

BILLING CODE 4310-55-P